DEPARTMENT OF HEALTH AND HUMAN SERVICES

Administration for Children and Families

Proposed Information Collection Activity; Comment Request

Proposed Projects

Title: Building Strong Families Demonstration and Evaluation.

OMB No.: New collection.

1. Description: The Building Strong Families (BSF) project is an important opportunity to learn whether well-designed interventions can help couples fulfill their aspirations for a healthy marriage and a strong family. The project will assess the net impact of interventions with low-income, unwed couples beginning around the time of a child's birth. The programs will be designed to help such couples strengthen their relationship, achieve a healthy marriage if that is the path they choose, and thus enhance child and family well-being. The programs will be designed around two main components. First, the programs will provide instruction and support to improve marriage and relationship skills and enhance couples' understanding of marriage. This focus is the distinctive component of the BSF project. In addition, BSF programs will provide a variety of other services that could help low-income couples sustain a healthy relationship (e.g., employment assistance). The early project period will be used to gather information from multiple sources in order to develop program models to be tested and evaluated. One important source of information will be low-income unwed parents and newly married couples.

2. Respondents: The respondents for the Focus Group Protocols and information sheets are low-income, unmarried, expectant or recent parents and newly married couples with children who volunteer to participate in focus groups. The attendance goal for each group is eight to 12 people in a total of 26 focus groups for a total of 208 to 312 respondents. Eight types of focus groups are planned: mothers alone, fathers alone, unwed couples, and recently married couples in each of two settings. The planned settings are: (1) Selective settings (i.e., venues selected in which we have or can establish relationships with organizations that can identify and encourage participation by low-income couples/parents) in order to gain information and insights early in the project development period; and (2) site-specific settings, after programs become part of the formal study, to help inform site-specific program designs to address needs among the target population. The selective settings will be the focus of the first round of information collection.

Annual Burden Estimates
Instrument | Number of respondents | Number of responses per respondent | Average burden hours per response | Total burden hours
Focus Group Protocol | 144 | 1 | 1.5 | 216
Information Sheet | 144 | 1 | .10 | 14.4
Estimated Total Annual Burden Hours | 230.4

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 10, 2003.
Bob Sargis,
Reports Clearance Officer.

[FR Doc. 03-3858 Filed 2-14-03; 8:45 am]

BILLING CODE 4184-01-M